ENVIRONMENTAL PROTECTION AGENCY

[FRL-8689-9]

Integrated Science Assessment for Oxides of Nitrogen—Health Criteria

AGENCY: Environmental Protection Agency.

ACTION: Notice of availability.

SUMMARY: The U.S. Environmental Protection Agency (EPA) is announcing the availability of a final document entitled “Integrated Science Assessment for Oxides of Nitrogen—Health Criteria” (EPA/600/R-08/071). The document was prepared by the National Center for Environmental Assessment within EPA's Office of Research and Development as part of the review of the primary (health-based) national ambient air quality standards (NAAQS) for oxides of nitrogen.

DATES: The document will be available on July 11, 2008.

ADDRESSES: The “Integrated Science Assessment for Oxides of Nitrogen—Health Criteria” will be available primarily via the Internet on the National Center for Environmental Assessment's home page under the Recent Additions and Publications menus at http://www.epa.gov/ncea. A limited number of CD-ROM or paper copies will be available. Contact Ms. Ellen Lorang by phone (919-541-2771), fax (919-541-5078), or e-mail (lorang.ellen@epa.gov) to request either of these, and please provide your name, your mailing address, and the document title, “Integrated Science Assessment for Oxides of Nitrogen—Health Criteria” (EPA/600/R-08/071), to facilitate processing of your request.

FOR FURTHER INFORMATION CONTACT: For technical information, contact Dennis Kotchmar, M.D., NCEA; telephone: 919-541-4158; facsimile: 919-541-5078; or e-mail: kotchmar.dennis@epa.gov or Thomas Luben, PhD, NCEA; telephone: 919-541-5762; or e-mail: luben.tom@epa.gov.

SUPPLEMENTARY INFORMATION: Section 108(a) of the Clean Air Act directs the Administrator to identify certain pollutants that “may reasonably be anticipated to endanger public health and welfare” and to issue air quality criteria for them. These air quality criteria are to “accurately reflect the latest scientific knowledge useful in indicating the kind and extent of all identifiable effects on public health or welfare which may be expected from the presence of [a] pollutant in the ambient air * * *.” Under section 109 of the Act, EPA is then to establish national ambient air quality standards (NAAQS) for each pollutant for which EPA has issued criteria. Section 109(d) of the Act requires subsequent periodic review and, if appropriate, revision of existing air quality criteria to reflect advances in scientific knowledge on the effects of the pollutant on public health and welfare. EPA is also to revise the NAAQS, if appropriate, based on the revised air quality criteria.

Oxides of nitrogen are one of six principal (or “criteria”) pollutants for which EPA has issued air quality criteria. National ambient air quality standards (NAAQS) based on those criteria have been established for nitrogen dioxide (NO2), an indicator for gaseous nitrogen oxides. Periodically, EPA reviews the scientific basis for these standards by preparing an Integrated Science Assessment (ISA) and supplementary annexes, formerly called an Air Quality Criteria Document (AQCD). The ISA and supplementary annexes, in conjunction with additional technical and policy assessments, provide the scientific basis for EPA decisions on the adequacy of a current NAAQS and the appropriateness of new or revised standards. The Clean Air Scientific Advisory Committee (CASAC), an independent science advisory committee mandated by the Clean Air Act and part of the EPA's Science Advisory Board (SAB), is charged with independent, expert scientific review of EPA's draft ISAs.

On December 9, 2005 (70 FR 73236), EPA formally initiated its current review of the criteria for Oxides of Nitrogen, requesting the submission of recent scientific information on specified topics. A draft of EPA's “Integrated Review Plan for the Primary National Ambient Air Quality Standard for Nitrogen Dioxide” was made available in February 2007 for public comment and was discussed by the Clean Air Science Advisory Committee (CASAC) via a publicly accessible teleconference consultation on May 11, 2007 (72 FR 20336). In February 2007 (72 FR 6238), a workshop was held to discuss, with invited scientific experts, initial draft materials prepared in the development of the ISA and supplementary annexes for oxides of nitrogen. The first external review draft of this ISA was released for public comment and review by the CASAC on August 31, 2007 (72 FR 50107), and was reviewed by CASAC at a public meeting held on October 24-25, 2007. The second draft of this ISA was released for public comment and review by the CASAC in March 2008 (73 FR 11916), and was reviewed by CASAC at a public meeting held on May 1-2, 2008. EPA has considered comments by CASAC and the public in preparing this final ISA.

Dated: July 1, 2008.
Rebecca M. Clark,
Acting Director, National Center for Environmental Assessment.

[FR Doc. E8-15726 Filed 7-10-08; 8:45 am]

BILLING CODE 6560-50-P